DEPARTMENT OF THE INTERIOR

National Park Service

Notice of Inventory Completion: Riverside Metropolitan Museum, Riverside, CA

AGENCY: National Park Service, Interior.

ACTION: Notice.

Notice is here given in accordance with the Native American Graves Protection and Repatriation Act (NAGPRA), 25 U.S.C. 3003, of the completion of an inventory of human remains and associated funerary objects in the control of the Riverside Metropolitan Museum, Riverside, CA. The human remains and associated funerary objects were removed from San Diego County, CA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by the Riverside Metropolitan Museum professional staff in consultation with the Barona Group of Capitan Grande Band of Mission Indians of the Barona Reservation, California; Campo Band of Diegueño Mission Indians of the Campo Indian Reservation, California; Ewiiaapaayp Band of Kumeyaay Indians, California; Iipay Nation of Santa Ysabel, California; Inaja Band of Diegueño Mission Indians of the Inaja and Cosmit Reservation, California; Jamul Indian Village of California; La Posta Band of Diegueño Mission Indians of the La Posta Indian Reservation, California; Manzanita Band of Diegueño Mission Indians of the Manzanita Reservation, California; Mesa Grande Band of Diegueño Mission Indians of the Mesa Grande Reservation, California; San Pasqual Band of Diegueño Mission Indians of California; Sycuan Band of the Kumeyaay Nation; and Viejas (Baron Long) Group of Capitan Grande Band of Mission Indians of the Viejas Reservation, California.

At an unknown date, human remains representing a minimum of two individuals were removed from an unknown cremation site in the Mason Valley, San Diego County, CA. In 1966, the Riverside Metropolitan Museum purchased the human remains from Fred Bates of Riverside, CA. No known individuals were identified. The 88 associated funerary objects are 1 stone mano, 6 bone awls, 59 shell beads, 1 burnt fiber, 4 metal items, 7 stone artifacts, 4 shells, 3 stone beads, 2 worked wood artifacts, and 1 pipe fragment.

It was determined through collections research and the geographic location that the human remains and associated funerary objects are of Kumeyaay/Diegueno origin. Museum records indicate “Indian Cremation Remains.” The Mason Valley is now divided into San Diego and Imperial Counties, as well as Baja Norte. While the nation of original inhabitants has been called Southern Diegueno, Diegueno-Kamia, Ipai-Tipai and Mission Indians, the tribes prefer to be called Kumeyaay. The Kumeyaay are a federation of autonomous, self-governing bands, that have clearly defined territories. Descendants of the Kumeyaay are represented by the Barona Group of Capitan Grande Band of Mission Indians of the Barona Reservation, California; Campo Band of Diegueño Mission Indians of the Campo Indian Reservation, California; Ewiiaapaayp Band of Kumeyaay Indians, California; Iipay Nation of Santa Ysabel, California; Inaja Band of Diegueño Mission Indians of the Inaja and Cosmit Reservation, California; Jamul Indian Village of California; La Posta Band of Diegueño Mission Indians of the La Posta Indian Reservation, California; Manzanita Band of Diegueño Mission Indians of the Manzanita Reservation, California; Mesa Grande Band of Diegueño Mission Indians of the Mesa Grande Reservation, California; San Pasqual Band of Diegueño Mission Indians of California; Sycuan Band of the Kumeyaay Nation; and Viejas (Baron Long) Group of Capitan Grande Band of Mission Indians of the Viejas Reservation, California.

Officials of the Riverside Metropolitan Museum have determined that, pursuant to 25 U.S.C. 3001 (9-10), the human remains described above represent two individuals of Native American ancestry. Officials of the Riverside Metropolitan Museum also have determined that, pursuant to 25 U.S.C. 3001 (3)(A), the 88 objects described above are reasonably believed to have been placed with or near individual human remains at the time of death or later as part of the death rite or ceremony. Lastly, officials of the Riverside Metropolitan Museum have determined that, pursuant to 25 U.S.C. 3001 (2), there is a relationship of shared group identity that can be reasonably traced between the Native American human remains and associated funerary objects and the Barona Group of Capitan Grande Band of Mission Indians of the Barona Reservation, California; Campo Band of Diegueño Mission Indians of the Campo Indian Reservation, California; Ewiiaapaayp Band of Kumeyaay Indians, California; Iipay Nation of Santa Ysabel, California; Inaja Band of Diegueño Mission Indians of the Inaja and Cosmit Reservation, California; Jamul Indian Village of California; La Posta Band of Diegueño Mission Indians of the La Posta Indian Reservation, California; Manzanita Band of Diegueño Mission Indians of the Manzanita Reservation, California; Mesa Grande Band of Diegueño Mission Indians of the Mesa Grande Reservation, California; San Pasqual Band of Diegueño Mission Indians of California; Sycuan Band of the Kumeyaay Nation; and Viejas (Baron Long) Group of Capitan Grande Band of Mission Indians of the Viejas Reservation, California.

Representatives of any other Indian tribe that believes itself to be culturally affiliated with the human remains and associated funerary objects should contact Ennette Morton, Museum Director, Riverside Metropolitan Museum, 3580 Mission Inn Ave., Riverside, CA 92501, telephone (951) 826-5273, before April 26, 2010. Repatriation of the human remains and associated funerary objects to the Barona Group of Capitan Grande Band of Mission Indians of the Barona Reservation, California; Campo Band of Diegueño Mission Indians of the Campo Indian Reservation, California; Ewiiaapaayp Band of Kumeyaay Indians, California; Iipay Nation of Santa Ysabel, California; Inaja Band of Diegueño Mission Indians of the Inaja and Cosmit Reservation, California; Jamul Indian Village of California; La Posta Band of Diegueño Mission Indians of the La Posta Indian Reservation, California; Manzanita Band of Diegueño Mission Indians of the Manzanita Reservation, California; Mesa Grande Band of Diegueño Mission Indians of the Mesa Grande Reservation, California; San Pasqual Band of Diegueño Mission Indians of California; Sycuan Band of the Kumeyaay Nation; and/or Viejas (Baron Long) Group of Capitan Grande Band of Mission Indians of the Viejas Reservation, California may proceed after that date if no additional claimants come forward.

The Riverside Metropolitan Museum is responsible for notifying the Barona Group of Capitan Grande Band of Mission Indians of the Barona Reservation, California; Campo Band of Diegueño Mission Indians of the Campo Indian Reservation, California; Ewiiaapaayp Band of Kumeyaay Indians, California; Iipay Nation of Santa Ysabel, California; Inaja Band of Diegueño Mission Indians of the Inaja and Cosmit Reservation, California; Jamul Indian Village of California; La Posta Band of Diegueño Mission Indians of the La Posta Indian Reservation, California; Manzanita Band of Diegueo Mission Indians of the Manzanita Reservation, California; Mesa Grande Band of Diegueño Mission Indians of the Mesa Grande Reservation, California; San Pasqual Band of Diegueño Mission Indians of California; Sycuan Band of the Kumeyaay Nation; and Viejas (Baron Long) Group of Capitan Grande Band of Mission Indians of the Viejas Reservation, California, and the Kumeyaay Cultural Repatriation Committee, a non-Federally recognized Indian group, that this notice has been published.

Dated: March 2, 2010
Sherry Hutt,
Manager, National NAGPRA Program.

[FR Doc. 2010-6561 Filed 3-24-10; 8:45 am]

BILLING CODE 4312-50-S